NUCLEAR REGULATORY COMMISSION

[NRC-2025-0148]

Draft Regulatory Guide: Guidance for Technology-Inclusive Risk-Informed Change Evaluation

AGENCY: Nuclear Regulatory Commission.

ACTION: Draft guide; request for comment.

SUMMARY: The U.S. Nuclear Regulatory Commission (NRC) is issuing for public comment a draft Regulatory Guide (DG), DG-1439, “Guidance for Technology-Inclusive Risk-Informed Change Evaluation.” This DG is a proposed new regulatory guide that describes an approach that the staff of the NRC finds acceptable for using a technology-inclusive risk-informed change evaluation process for changes to a facility described in final safety analysis reports (as updated). Subject to the clarifications in Section C of this DG, the DG endorses the methodology described in Nuclear Energy Institute (NEI) 22-05, Revision 0, “Technology Inclusive Risk Informed Change Evaluation (TIRICE), Guidance for the Evaluation of Changes to Facilities Utilizing NEI 18-04 and NEI 21-07,” issued January 2024, for plants licensed using the guidance in NEI 18-04, “Risk-Informed Performance-Based Technology Inclusive Guidance for Non-Light Water Reactor Licensing Basis Development,” and NEI 21-07, “Technology Inclusive Guidance for Non-Light Water Reactors, Safety Analysis Report Content for Applicants Using the NEI 18-04 Methodology.”

DATES: Submit comments by September 8, 2025. Comments received after this date will be considered if it is practical to do so, but the NRC is able to ensure consideration only for comments received on or before this date.

ADDRESSES: You may submit comments by any of the following methods; however, the NRC encourages electronic comment submission through the Federal rulemaking website.

• Federal Rulemaking Website: Go to https://www.regulations.gov and search for Docket ID NRC-2025-0148. Address questions about Docket IDs in Regulations.gov to Bridget Curran; telephone: 301-415-1003; email: Bridget.Curran@nrc.gov. For technical questions, contact the individual(s) listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Roel Brusselmans, Office of Nuclear Reactor Regulation, telephone: 301-415-0829; email: Roel.Brusselmans@nrc.gov and Vance Petrella, Office of Nuclear Regulatory Research, telephone: 301-415-1048; email: Vance.Petrella@nrc.gov. Both are staff of the U.S. Nuclear Regulatory Commission, Washington, DC 20555-0001.

SUPPLEMENTARY INFORMATION:

I. Obtaining Information and Submitting Comments

A. Obtaining Information

Please refer to Docket ID NRC-2025-0148 when contacting the NRC about the availability of information for this action. You may obtain publicly available information related to this action by any of the following methods:

• Federal Rulemaking Website: Go to https://www.regulations.gov and search for Docket ID NRC-2025-0148.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. DG-1439 is available in ADAMS under Accession No. ML24295A187.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-0148 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The NRC is issuing for public comment a DG in the NRC's “Regulatory Guide” series. This series was developed to describe methods that are acceptable to the NRC staff for implementing specific parts of the agency's regulations, to explain techniques that the staff uses in evaluating specific issues or postulated events, and to describe information that the staff needs in its review of applications for permits and licenses.

The DG, entitled “Guidance for Technology-Inclusive Risk-Informed Change Evaluation,” is temporarily identified by its task number, DG-1439. The DG is a proposed new regulatory guide that endorses, subject to the clarifications in Section C of the DG, NEI 22-05 as one acceptable alternative to using the criteria in section 50.59 of title 10 of the Code of Federal Regulations (10 CFR), “Changes, tests, and experiments,” for evaluating changes under the special circumstances introduced when a plant is licensed using the guidance in NEI 18-04 and NEI 21-07. The licensee would be responsible for preparing any necessary requests for an exemption from specific requirements in 10 CFR 50.59 and related proposed license conditions to support this alternative.

The NRC is also issuing for public comment a regulatory analysis (ADAMS Accession No. ML24295A188). The NRC develops a regulatory analysis to assess the value of issuing or revising a RG as well as alternative courses of action.

III. Backfitting, Forward Fitting, and Issue Finality

Licensees generally are not required to comply with the guidance in this proposed RG. If the NRC proposes to use this RG in an action that would constitute backfitting, as that term is defined in 10 CFR 50.109, “Backfitting,” and as described in NRC Management Directive (MD) 8.4, “Management of Backfitting, Forward Fitting, Issue Finality, and Information Requests”; affect the issue finality of an approval issued under 10 CFR part 52, “Licenses, Certifications, and Approvals for Nuclear Power Plants;” or constitute forward fitting, as that term is defined in MD 8.4, then the NRC staff will apply the applicable policy in MD 8.4 to justify the action. If a licensee believes that the NRC is using this DG in a manner inconsistent with the discussion in the Implementation section, then the licensee may inform the NRC staff in accordance with MD 8.4.

IV. Submitting Suggestions for Improvement of Regulatory Guides

A member of the public may, at any time, submit suggestions to the NRC for improvement of existing regulatory guides or for the development of new regulatory guides. Suggestions can be submitted on the NRC's public website at https://www.nrc.gov/reading-rm/doc-collections/reg-guides/contactus.html. Suggestions will be considered in future updates and enhancements to the “Regulatory Guide” series.

V. Executive Order (E.O.) 12866

The Office of Information and Regulatory Affairs determined that this DG is not a significant regulatory action under E.O. 12866.

Dated: August 5, 2025.
For the Nuclear Regulatory Commission.
Meraj Rahimi,
Chief, Regulatory Guide and Programs Management Branch, Division of Engineering, Office of Nuclear Regulatory Research.

[FR Doc. 2025-15047 Filed 8-7-25; 8:45 am]

BILLING CODE 7590-01-P